DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 19, 2013. Address written comments to Statutory Import Programs Staff, Room 3720, U.S. Department of Commerce, Washington, DC 20230. Applications may be examined between 8:30 a.m. and 5:00 p.m. at the U.S. Department of Commerce in Room 3720.

Docket Number: 13-034. Applicant: University of Minnesota—Twin Cities, 421 Washington Avenue SE., Minneapolis, MN 55455. Instrument: Diode-Pumped Solid-State Femtosecond Laser. Manufacturer: Light Conversion, Lithuania. Intended Use: The instrument will be used to study non-equilibrium materials processes ranging spatially from the atomic-scale up to micrometers and temporally from femtoseconds to seconds, including thermal transport, energy conversion (e.g., light to heat), crystallization, melting, phase transformations, fracture, and other dynamic events. The unique characteristics of the instrument required for the research objectives include a variable repetition rate from single-shot to 1 MHz controlled with TTL input for external triggering or via computer interface, 0.2 mJ/pulse (<30 kHz), 6 Watts at 1 MHz, collinear output from a harmonics module of fundamental (1030 nm), second harmonic (515 nm), and third harmonic (343 nm) with additional optics for operation at low and high repetition rates. Justification for Duty-Free Entry: There are no instruments of the same general category manufactured in the United States. Application accepted by Commissioner of Customs: July 30, 2013.

Docket Number: 13-036. Applicant: UChicago Argonne, 9700 South Cass Avenue, Lemont, IL 60439. Instrument: High pressure crystal growth furnace with Siemens programmable logic controller. Manufacturer: SCIDRE—Scientific Instruments, Germany. Intended Use: The instrument will be used to create transition metal oxides, including oxides of iron, manganese, copper, cobalt, vanadium, iridium, ruthenium, rhenium, titanium, nickel, and zinc. It will also be used to grow crystals of intermetallic phases, which are non-oxides of these same transition metals, alloyed with lanthanide metals and/or main group metals (e.g., Al, Si, Bi). These materials will be created to understand a variety of physical phenomena including superconductivity, metal-insulator transitions, and magnetism. With the crystals grown on the instrument, a variety of tests will be performed including magnetic measurements, structural determination by x-ray or neutron scattering, and electrical transport. The unique characteristics of this instrument required for the research objectives include operation at pressures of oxygen or inert gases up to 150 atm, measurement of image zone using pyrometric probes, and cleansing of inert gas stream to better than 10⁻¹² ppm oxygen with monitoring during process. Justification for Duty-Free Entry: There are no instruments of the same general category manufactured in the United States. Application accepted by Commissioner of Customs: August 19, 2013.

Docket Number: 13-037. Applicant: Georgia Health Sciences University, 1120 15th Street, Augusta, GA 30912. Instrument: Imaging System/Digital Microscope & Accessories. Manufacturer: Till Photonics, Germany. Intended Use: The instrument will be used for fluorescence imaging of cellular organelles and calcium flux, photo-activation and photo-bleaching fluorescent proteins to study cellular organelles (mitochondria) and intracellular ion flux. The unique characteristics of the instrument include fast wavelength change, a dichromotome system, and two different light sources that are incorporated and readily switchable, incorporated into a single unit of a wide field fluorescence microscope. Justification for Duty-Free Entry: There are no instruments of the same general category manufactured in the United States. Application accepted by Commissioner of Customs: August 22, 2013.

Dated: October 22, 2013.
Gregory W. Campbell,
Director of Subsidies Enforcement, Enforcement and Compliance.

[FR Doc. 2013-25599 Filed 10-29-13; 8:45 am]

BILLING CODE 3510-DS-P